DEPARTMENT OF AGRICULTURE

Commodity Credit Corporation

Conservation Reserve Program; Critical Feed Use

AGENCY: Commodity Credit Corporation, USDA.

ACTION: Notice of Voluntary Modification of Conservation Reserve Program Contract.

SUMMARY: The Commodity Credit Corporation (CCC) announces the opportunity to allow Conservation Reserve Program (CRP) participants with certain established vegetative cover to voluntarily modify the CRP contract to utilize certain CRP land enrolled for a critical feed use this year without a rental reduction. Producers will be required to obtain a modified conservation plan to include, among other things, haying or grazing of the established cover.

DATES: This modification to the CRP contract will be available beginning June 2, 2008.

FOR FURTHER INFORMATION CONTACT: Beverly J. Preston, Program Manager, Conservation Reserve Program, USDA/FSA/CEPD/Stop 0513, 1400 Independence Ave., SW., Washington, DC 20250-0513, (202) 720-9563, or e-mail at: Beverly.Preston@wdc.usda.gov. More detailed information on CRP may be obtained from FSA's Web site: http://www.fsa.usda.gov/FSA/webapp?area=home&subject=copr&topic=crp.

SUPPLEMENTARY INFORMATION: CRP was authorized by the Food Security Act of 1985 [16 U.S.C. 3801-3862], as amended. It is operated by CCC through the Farm Service Agency (FSA) of the Department of Agriculture (USDA). CRP is a voluntary program to cost-effectively assist producers in conserving and improving soil, water, and wildlife resources by converting highly erodible and other environmentally-sensitive acreage to a long-term vegetative cover. CRP participants enroll land under contracts for 10 to 15 years in exchange for annual rental payments and financial assistance to install certain conservation practices and maintain vegetative or tree covers. Enrollment authority in the CRP is 39.2 million acres. Enrollment as of April 1, 2008, is 34.7 million acres.

This notice is intended to advise CRP participants that they may request a contract modification to allow for this year a special, one-time, critical feed use of the property under contract, without a rental rate reduction. Such contract modifications are authorized by 16 U.S.C. 3835(c). Participants that request a voluntary modification to the CRP contract to allow this critical feed use must obtain a modified conservation plan for haying and grazing management according to the Natural Resources Conservation Service Field Office Technical Guide haying and grazing standards. The critical feed use activity on the property must be completed by November 10, 2008. The modified conservation plan will provide for haying or grazing in a manner that is consistent with the conservation goals of the CRP to reduce soil erosion and enhance water quality and wildlife habitat.

Haying and grazing must be conducted in a manner that limits the scope, frequency and duration of the activity and provides unhayed and ungrazed acreage for wildlife. To ensure the protection of the resources, critical feed use is not authorized during the primary nesting or brood-rearing season. Participants who request a voluntary modification of the CRP contract for a critical feed use will be subject to compliance reviews. Producers will be required to pay an administrative fee of $75 for this modification.

Prices for most field crops have advanced to record or near record levels in recent months, reflecting strong demand, tight supplies, and competition for acres. Higher grain prices are affecting the livestock sector by raising production costs. At the same time, harvested hay acres are expected to drop from 61,625,000 in 2007 to 60,583,000 in 2008.

This action differs from emergency haying and grazing allowances made in response to emergency conditions such as natural disasters. Rather, this allowance, by contract modification, reflects the general reserve nature of the overall program. Accordingly, as described above, FSA is allowing voluntary modifications of CRP contracts to utilize CRP lands for critical feed use. Further information will be available at FSA offices.

Signed at Washington, DC, on May 22, 2008.
Glen Z. Keppy,
Acting Executive Vice President, Commodity Credit Corporation.

[FR Doc. E8-12054 Filed 5-29-08; 8:45 am]

BILLING CODE 3410-05-P